DEPARTMENT OF DEFENSE

Office of the Secretary

[DoD-2008-OS-0080]

Privacy Act of 1974; System of Records

AGENCY: Office of the Secretary of Defense.

ACTION: Notice to Alter a System of Records.

SUMMARY: The Office of the Secretary of Defense proposes to alter a system of records to its inventory of record systems subject to the Privacy Act of 1974 (5 U.S.C. 552a), as amended.

DATES: This proposed action would be effective without further notice on August 20, 2008 unless comments are received which result in a contrary determination.

ADDRESSES: Send comments to Chief, OSD/JS Privacy Office, Freedom of Information Directorate, Washington Headquarters Services, 1155 Defense Pentagon, Washington, DC 20301-1155.

FOR FURTHER INFORMATION CONTACT: Ms. Cindy Allard at (703) 588-2386.

SUPPLEMENTARY INFORMATION: The Office of the Secretary of Defense notices for systems of records subject to the Privacy Act of 1974 (5 U.S.C. 552a), as amended, have been published in the Federal Register and are available from the address above.

The proposed system report, as required by 5 U.S.C. 552a(r) of the Privacy Act of 1974, as amended, was submitted on July 14, 2008, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 15, 2008.
Patricia L. Toppings,
OSD Federal Register Liaison Officer, Department of Defense.

DWHS E02

Freedom of Information Act Cast Files (March 28, 2007, 72 FR 14530).

Changes:

* * * * *

System location:

Add to entry “DoD Educational Activity Records: Department of Defense Education Activity, FOIA Requester Service Center, Executive Services Office, Associate Director for Financial & Business Operations, 4040 North Fairfax Drive, Arlington, VA 22203-1634.”

Categories of individuals covered by the system:

Delete entry and replace with “All persons who have requested documents under the provisions of the Freedom of Information Act (FOIA); individuals whose requests and/or records have been processed under FOIA and referred by other Federal agencies; and attorneys representing individuals submitting such requests.”

* * * * *

Authority for maintenance of the system:

Add to entry “10 U.S.C. 2164 Department of Defense Domestic Dependent Elementary and Secondary Schools; 20 U.S.C. 921-932, Overseas Defense Dependent's Education; DoD Directive 1342.20 Department of Defense Education Activity;”

* * * * *

System manager(s) and address:

Add to entry “Department of Defense Education Activity, FOIA Requester Service Center, Executive Services Office, Associate Director for Financial & Business Operations, 4040 North Fairfax Drive, Arlington, VA 22203-1634.”

Notification procedure:

Delete entry and replace with “Individuals seeking to determine whether information about themselves is contained in this system of records should address written inquires to

For Washington Headquarters records: Chief, Freedom of Information Division, Executive Services Directorate, Washington Headquarters Services, 1155 Defense Pentagon, Washington, DC 20301-1155.

For DoD Education Activity records: Department of Defense Education Activity, FOIA Requester Service Center, Executive Services Office, Associate Director for Financial & Business Operations, 4040 North Fairfax Drive, Arlington, VA 22203-1634.

Requests for information should be in writing, signed, and provide evidence of the requester's identity, such as a copy of a photo ID or passport or similar document bearing the requester's signature. If a parent or legal guardian is requesting records pertaining to his or her minor child or ward, he/she must also provide evidence of that relationship. For example, the parent may provide a copy of the child's school enrollment form signed by the parent, or copy of a divorce decree or travel order that includes the child's name, or an order of guardianship, or a declaration stating that he/she is the parent or legal guardian of the minor or incapacitated child.

For personal visits to examine records, the individual should provide a form of picture identification, i.e., a driver license.”

Record access procedures:

Delete entry and replace with “Individuals seeking to determine whether information about themselves is contained in this system of records should address written inquires to:

For Washington Headquarters records: Chief, Freedom of Information Division, Executive Services Directorate, Washington Headquarters Services, 1155 Defense Pentagon, Washington, DC 20301-1155.

For DoD Education Activity records: Department of Defense Education Activity, FOIA Requester Service Center, Executive Services Office, Associate Director for Financial & Business Operations, 4040 North Fairfax Drive, Arlington, VA 22203-1634.

Requests for information should be in writing, signed, and provide evidence of the requester's identity, such as a copy of a photo ID or passport or similar document bearing the requester's signature. If a parent or legal guardian is requesting records pertaining to his or her minor child or ward, he/she must also provide evidence of that relationship. For example, the parent may provide a copy of the child's school enrollment form signed by the parent, or copy of a divorce decree or travel order that includes the child's name, or an order of guardianship, or a declaration stating that he/she is the parent or legal guardian of the minor or incapacitated child.

For personal visits to examine records, the individual should provide a form of picture identification, i.e., a driver license.”

* * * * *

DWHS E02

System name:

Freedom of Information Act Case Files.

System location:

Washington Headquarters Records: Freedom of Information Division, Executive Services Directorate, Washington Headquarters Services, 1155 Defense Pentagon, Washington, DC 20301-1155.

DoD Educational Activity Records: Department of Defense Education Activity, FOIA Requester Service Center, Executive Services Office, Associate Director For Financial & Business Operations, 4040 North Fairfax Drive, Arlington, VA 22203-1634.

Categories of individuals covered by the system:

All persons who have requested documents under the provisions of the Freedom of Information Act (FOIA); individuals whose requests and/or records have been processed under FOIA and referred by other Federal agencies; and attorneys representing individuals submitting such requests.

Categories of records in the system:

Records created or compiled in response to FOIA requests and administrative appeals, i.e., original requests and administrative appeals; responses to such requests and administrative appeals; all related memoranda, correspondence, notes and other related or supporting documentation; and copies of requested records and records under administrative appeal.

Authority for maintenance of the system:

5 U.S.C. 552, the Freedom of Information Act; 10 U.S.C. 113, Secretary of Defense; 10 U.S.C. 136, Under Secretary of Defense for Personnel and Readiness; 10 U.S.C. 2164 Department of Defense Domestic Dependent Elementary and Secondary Schools; 20 U.S.C. 921-932, Overseas Defense Dependent's Education; DoD Directive 1342.20 Department of Defense Education Activity; and DoD 5400.7-R, DoD Freedom of Information Act Program.

Purpose(s):

Information is being collected and maintained for the purpose of processing FOIA requests and administrative appeals; for participating in litigation regarding agency action on such requests and appeals; and for assisting the Department of Defense in carrying out any other responsibilities under the FOIA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of OSD's compilation of systems of records notices apply to this system.

Policies and practices for storing, retrieving, accessing, retaining, and disposing of records in the system:

Storage:

Paper records in file folder and electronic storage media.

Retrievability:

Retrieved by name, subject matter, date of document, and request number.

Safeguards:

Paper records are maintained in security containers with access only to officials whose access is based on requirements of assigned duties. Computer databases are password protected and accessed by individuals who have a need-to-know.

Retention and disposal:

Paper records that are granted are destroyed 2 years after the date of reply. Paper records that are denied in whole or part, no records responses, responses to requesters who do not adequately describe records being sought, or do not state a willingness to pay fees, and records which are appealed or litigated are destroyed 6 years after final action. Electronic records are deleted when no longer needed to support Directorate business needs.

System manager(s) and address:

Washington Headquarters Records: Chief, Freedom of Information Division, Executive Services Directorate, Washington Headquarters Services, 1155 Defense Pentagon, Washington, DC 20301-1155.

DoD Education Activity Records: Department of Defense Education Activity, FOIA Requester Service Center, Executive Services Office, Associate Director For Financial & Business Operations, 4040 North Fairfax Drive, Arlington, VA 22203-1634.

Notification procedure:

Individuals seeking to determine whether information about themselves is contained in this system of records should address written inquires to

For Washington Headquarters records: Chief, Freedom of Information Division, Executive Services Directorate, Washington Headquarters Services, 1155 Defense Pentagon, Washington, DC 20301-1155.

For DoD Education Activity records: Department of Defense Education Activity, FOIA Requester Service Center, Executive Services Office, Associate Director For Financial & Business Operations, 4040 North Fairfax Drive, Arlington, VA 22203-1634.

In addition, for DoD Education Activity records a parent or legal guardian is requesting records pertaining to his or her minor child or ward, he/she must also provide evidence of that relationship. For example, the parent may provide a copy of the child's school enrollment form signed by the parent, or copy of a divorce decree or travel order that includes the child's name, or an order of guardianship, or a declaration stating that he/she is the parent or legal guardian of the minor or incapacitated child

Requests for information should be in writing, signed, and provide evidence of the requester's identity, such as a copy of a photo ID or passport or similar document bearing the requester's signature.

For personal visits to examine records, the individual should provide a form of picture identification, i.e., a driver license.

Record access procedures:

Individuals seeking to determine whether information about themselves is contained in this system of records should address written inquires to

For Washington Headquarters records: Chief, Freedom of Information Division, Executive Services Directorate, Washington Headquarters Services, 1155 Defense Pentagon, Washington, DC 20301-1155.

For DoD Education Activity records: Department of Defense Education Activity, FOIA Requester Service Center, Executive Services Office, Associate Director For Financial & Business Operations, 4040 North Fairfax Drive, Arlington, VA 22203-1634.

In addition, DoD Education Activity records a parent or legal guardian is requesting records pertaining to his or her minor child or ward, he/she must also provide evidence of that relationship. For example, the parent may provide a copy of the child's school enrollment form signed by the parent, or copy of a divorce decree or travel order that includes the child's name, or an order of guardianship, or a declaration stating that he/she is the parent or legal guardian of the minor or incapacitated child.

Requests for information should be in writing, signed, and provide evidence of the requester's identity, such as a copy of a photo ID or passport or similar document bearing the requester's signature.

For personal visits to examine records, the individual should provide a form of picture identification, i.e., a driver license.

Contesting record procedures:

The OSD rules for accessing records, for contesting contents and appealing initial agency determinations are published in OSD Administrative Instruction 81; 32 CFR part 311; or may be obtained from the system manager.

Record source categories:

Those individuals who submit initial requests and administrative appeals pursuant to the FOIA; the agency records searched in the process of responding to such requests and appeals; Department of Defense personnel assigned to handle such requests and appeals; other agencies or entities that have referred to the Department of Defense requests concerning Department of Defense records or that have consulted with the Department of Defense regarding the handling of particular requests; submitters of records; and information that have provided assistance to the Department of Defense in making FOIA access determinations.

Exemptions claimed for the system:

During the course of a FOIA action, exempt materials from other systems of records may in turn become part of the case records in this system. To the extent that copies of exempt records from those “other” systems of records are entered into this FOIA case record, Washington Headquarters Services and DoD Education Activity hereby claims the same exemptions for the records from those “other” systems that are entered into this system, as claimed for the original primary systems of records which they are a part.

An exemption rule for this system has been promulgated in accordance with requirements of 5 U.S.C. 553(b)(1), (2), and (3), (c), and (e) and published in 32 CFR part 311. For additional information contact the system manager.

[FR Doc. E8-16598 Filed 7-18-08; 8:45 am]

BILLING CODE 5001-06-P